DEPARTMENT OF COMMERCE

National Oceanic and Atmospheric Administration

RIN 0648-XF07

Availability of a Draft Environmental Assessment Considering the States of Oregon, Idaho, and Washington's Request for Lethal Removal Authority of California Sea Lions in Accordance with the Marine Mammal Protection Act

AGENCY: National Marine Fisheries Service (NMFS), National Oceanic and Atmospheric Administration (NOAA), Commerce.

ACTION: Notice; availability of a draft Environmental Assessment and request for written comment.

SUMMARY: The NMFS is giving notice that we have prepared a draft Environmental Assessment (EA) under the National Environmental Policy Act (NEPA) that analyzes impacts on the environment from the potential authorization to the States of Oregon, Idaho, and Washington (states) to lethally removal certain California sea lions that are feeding on at-risk salmon and steelhead stocks below Bonneville dam on the Columbia River. This authorization would be pursuant to Section 120 of the Marine Mammal Protection Act (MMPA). The states have requested authorization to lethally remove individually identifiable California sea lions having a significant negative impact on the decline or recovery of several populations of salmon and steelhead listed under the Endangered Species Act (ESA). This document serves to notify the public of the availability of the draft EA for review and comment before NMFS makes a final decision on whether to issue a Finding of No Significant Impact.

DATES: Written comments on the draft EA must be received at the appropriate address, email address, or fax number (see ADDRESSES) no later than 5 p.m. Pacific standard time on February 19, 2008.

ADDRESSES: Written comments and requests for copies of the draft EA should be addressed to Garth Griffin, Protected Resources Division, 1201 NE Lloyd Boulevard, suite 1100, Portland, OR, 97232, or faxed to (503) 230-5441. Comments on this draft EA may be submitted by e-mail. The mailbox address for providing e-mail comments is sea.lion.comments@noaa.gov. Include in the subject line the following document identifier: “California Sea Lion Lethal Removal”. The documents are also available on the Internet at http://www.nwr.noaa.gov/Marine-Mammals/Seals-and-Sea-Lions/Sec-120-draft-EA.cfm.

FOR FURTHER INFORMATION CONTACT: Garth Griffin, Portland, OR, at phone number (503) 231-2005 or e-mail: garth.griffin@noaa.gov.

SUPPLEMENTARY INFORMATION: This notice is relevant to the following MMPA species:

California sea lion (Zalophus californianus)

and ESA species:

Chinook salmon (Oncorhynchus tshawytscha): endangered upper Columbia spring-run

Chinook salmon (O. tshawytscha): threatened Snake River spring/summer-run

Steelhead (O. mykiss): threatened Snake River Basin

Steelhead (O. mykiss): threatened Middle Columbia River.

Steelhead (O. mykiss): threatened lower Columbia River

Background

NEPA requires Federal agencies to conduct an environmental analysis of their proposed actions to determine if the actions may affect the human environment (42 U.S.C. 4321 et seq. & 40 CFR parts 1500-1508). Although not required for EAs, NMFS is seeking public input on the analysis and will consider all public comments received on the draft EA prior to making a decision to approve or disapprove the states' application.

In 1994, Congress amended the MMPA, adding Section 120, which establishes a process for authorizing intentional lethal removal of individually identifiable pinnipeds (seals and sea lions) that are having a significant negative impact on salmonids that are either listed or approaching listing under the Endangered Species Act. On December 5, 2006, the states applied to the Secretary of Commerce (Secretary) for authority to lethally remove, by intentional means, individually identifiable California sea lions at Bonneville Dam on the Columbia River in accordance with the Section 120 process.

The Secretary, acting through the Assistant Administrator for NMFS, determined that the states' Section 120 application provided sufficient evidence to warrant establishing a pinniped-fishery interaction task force (task force). In a Federal Register notice on January 30, 2007, NMFS announced receipt of the states' application and solicited public comments on the application and any additional information that should be considered. In an August 9, 2007, Federal Register notice, NMFS announced establishment of the task force and provided information about its first public meeting. Convened in September 2007, the task force reviewed the states' application, public comments on the application, and other information related to sea lion predation on salmon and steelhead at Bonneville dam.

The task force considered criteria contained in Section 120(d) and additional questions posed by NMFS in determining whether to recommend approval or disapproval of the states' application. The task force met three times and provided its final report and recommendations to NMFS on November 5, 2007. The Marine Mammal Commission commented on both the states' application and the task force's report.

We have developed a proposed action in response to the states' application and prepared a draft EA considering the environmental impacts of the proposed action and three alternatives. We developed this proposal and analysis after reviewing and considering all available information in the states' application, public comments on the application, internal scoping, task force recommendations, comments and information provided by the Marine Mammal Commission, and applicable law. The available document proposes to authorize the states to lethally remove individually identifiable California sea lions below Bonneville Dam under certain conditions. The analysis considers the environmental consequences of the proposed action and alternative actions aimed at reducing California sea lion predation on salmonids listed as threatened and endangered under the ESA below Bonneville dam. The general effects on the environment considered include the impacts on the physical, biological, and socioeconomic environments of the lower Columbia River below Bonneville dam, particularly between Columbia River miles 140 to 146.

We are requesting public comment on the proposed action and alternatives considered. In particular, we seek comment on:

Our application of the statutory phrase “individually identifiable pinnipeds that are having a significant negative impact” on salmonids.

The likely impact of the proposed action and alternatives on listed salmonids.

The likely impact of the proposed action and alternatives on marine mammals.

The likely impact of the proposed action and alternatives on public safety.

The analysis and public comments will inform NMFS' decision on actions to reduce pinniped predation below Bonneville dam, specifically approval or disapproval of the states' request under Section 120 of the MMPA, and any conditions that may apply in the event the states' request is approved.

Comments or questions concerning this proposed action and the environmental review should be directed to NMFS at the address or telephone numbers provided above. All comments and materials received, including names and addresses, will become part of the administrative record and may be released to the public.

Dated: January 14, 2008.
David Cottingham,
Chief, Marine Mammal Conservation Division, Office of Protected Resources, National Marine Fisheries Service.

[FR Doc. E8-893 Filed 1-17-08; 8:45 am]

BILLING CODE 3510-22-S